FEDERAL COMMUNICATIONS COMMISSION

47 CFR Part 73

[DA 02-2100; MB Docket No. 02-266; RM-10557]

Radio Broadcasting Services; Chillicothe, Dublin, Hillsboro, and Marion, OH

AGENCY: Federal Communications Commission.

ACTION: Proposed rule.

SUMMARY: This document requests comments on a petition for rule making filed on behalf of Citicasters Licenses, Inc., licensee of Station WMRN-FM and Citicasters Company, licensee of Station WSRW-FM, Hillsboro, Ohio. The petition proposes to change Station WMRN-FM's community of license from Marion to Dublin, Ohio, downgrade that station's channel from Channel 295B to Channel 294B1, and provide Dublin with its first local aural transmission service. To achieve compliance with the Commission's spacing rules, the petition also requests permission to change Station WSRW-FM's community of license from Hillsboro, Ohio, to Chillicothe, Ohio, and to downgrade Station WSRW-FM's channel from Channel 294B to Channel 293A. The coordinates for requested Channel 294B1 at Dublin, Ohio, are 40-09-20 NL and 82-54-12 WL. The coordinates for requested Channel 293A at Chillicothe, Ohio, are 39-17-31 NL and 82-51-38 WL.

Petitioner's reallotment proposal complies with the provisions of Section 1.420(i) of the Commission's Rules, and therefore, the Commission will not accept competing expressions of interest in the use of Channel 294B1 at Dublin, Ohio, or Channel 293A at Chllicothe, Ohio, or require the petitioner to demonstrate the availability of an additional equivalent class channel for either proposal.

DATES: Comments must be filed on or before October 21, 2002, and reply comments on or before November 5, 2002.

ADDRESSES: Secretary, Federal Communications Commission, 445 12th Street, SW., Room TW-A325, Washington, DC 20554. In addition to filing comments with the FCC, interested parties should serve the petitioners' counsel, as follows: Mark N. Lipp, Esq., J. Thomas Nolan, Esq., and Tamara Y. Brown, Esq; Shook, Hardy & Bacon, LLP.; 600 14th Street, NW., Suite 800; Washington, DC 20005-2004.

FOR FURTHER INFORMATION CONTACT: R. Barthen Gorman, Media Bureau, (202) 418-2180.

SUPPLEMENTARY INFORMATION: This is a synopsis of the Commission's Notice of Proposed Rule Making, MB Docket No. 02-266, adopted August 21, 2002, and released August 30, 2002. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Ohio, is amended by adding Dublin, Channel 294B1, and Channel 293A at Chillicothe; and removing Hillsboro, Channel 294B, and Channel 295B at Marion.

Federal Communications Commission.
John A. Karousos,
Assistant Chief, Audio Division, Media Bureau.

[FR Doc. 02-23140 Filed 9-11-02; 8:45 am]

BILLING CODE 6712-01-P